DEPARTMENT OF TRANSPORTATION

Federal Aviation Administration

14 CFR Part 39

[Docket No. FAA-2013-0610; Directorate Identifier 2013-CE-017-AD; Amendment 39-17592; AD 2013-19-10]

RIN 2120-AA64

Airworthiness Directives; PILATUS AIRCRAFT LTD. Airplanes

AGENCY: Federal Aviation Administration (FAA), Department of Transportation (DOT).

ACTION: Final rule.

SUMMARY: We are adopting a new airworthiness directive (AD) for PILATUS AIRCRAFT LTD. Model PC-12/47E airplanes. This AD results from mandatory continuing airworthiness information (MCAI) issued by an aviation authority of another country to identify and correct an unsafe condition on an aviation product. The MCAI describes the unsafe condition as common grounding of both the pilot primary flight display (PFD) and the Electronic Standby Instrument System (ESIS). If the common ground fails both navigations systems could fail simultaneously, which could result in loss of control. We are issuing this AD to require actions to address the unsafe condition on these products.

DATES: This AD is effective October 30, 2013.

The Director of the Federal Register approved the incorporation by reference of a certain publication listed in the AD as of October 30, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Pilatus Aircraft Ltd., Customer Service Manager, CH-6371 STANS, Switzerland; telephone: +41 (0) 41 619 65 01; fax: +41 (0) 41 619 65 76; Internet: http://www.pilatus-aircraft.com/#32. You may review copies of the referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to include an AD that would apply to the specified products. That NPRM was published in the Federal Register on July 17, 2013 (78 FR 42723). That NPRM proposed to correct an unsafe condition for the specified products. The MCAI states:

During a design review of the electrical supply of navigation equipment installed on certain PC 12/47E aeroplanes, common grounding of the pilot Primary Flight Display (PFD) and the Electronic Standby Instrument System (ESIS) was identified.

This condition, if not corrected, could lead, in case of failure of PFD and ESIS common ground, to simultaneous loss of more than one pilot flight information display and inhibition of flight parameter presentation, possibly resulting in reduced ability to control the aeroplane.

To address this potentially unsafe condition, Pilatus Aircraft Ltd. introduced a modification in production to relocate the ESIS ground connection. This modification is available for affected in-service aeroplanes through Pilatus Aircraft Ltd Service Bulletin (SB) No 34-038.

For the reasons described above, this AD requires relocation of the ESIS ground connection. The MCAI can be found in the AD docket on the Internet at http://www.regulations.gov/#!documentDetail;D=FAA-2013-0610-0002.

Comments

We gave the public the opportunity to participate in developing this AD. We received no comments on the NPRM (78 FR 42723, July 17, 2013) or on the determination of the cost to the public.

Conclusion

We reviewed the relevant data and determined that air safety and the public interest require adopting this AD as proposed except for minor editorial changes. We have determined that these minor changes:

• Are consistent with the intent that was proposed in the NPRM (78 FR 42723, July 17, 2013) for correcting the unsafe condition; and

• Do not add any additional burden upon the public than was already proposed in the NPRM (78 FR 42723, July 17, 2013).

Costs of Compliance

We estimate that this AD will affect 230 products of U.S. registry. We also estimate that it would take about 5 work-hours per product to comply with the basic requirements of this AD. The average labor rate is $85 per work-hour. Required parts would cost about $40 per product.

Based on these figures, we estimate the cost of this AD on U.S. operators to be $106,950, or $465 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-19-10 PILATUS AIRCRAFT LTD.: Amendment 39-17592; Docket No. FAA-2013-0610; Directorate Identifier 2013-CE-017-AD.

(a) Effective Date

This airworthiness directive (AD) becomes effective October 30, 2013.

(b) Affected ADs

None.

(c) Applicability

This AD applies to PILATUS AIRCRAFT LTD. Model PC-12/47E airplanes, serial numbers 545 and 1001 through 1450, certificated in any category.

(d) Subject

Air Transport Association of America (ATA) Code 34: Navigation.

(e) Reason

This AD results from mandatory continuing airworthiness information (MCAI) originated by an aviation authority of another country to identify and correct an unsafe condition on an aviation product. The MCAI describes the unsafe condition as common grounding of both the pilot primary flight display (PFD) and the Electronic Standby Instrument System (ESIS). If the common ground fails both navigation systems could fail simultaneously. We are issuing this AD to prevent simultaneous failure of both navigation systems, which could result in loss of control.

(f) Actions and Compliance

Unless already done, within 3 months after October 30, 2013 (the effective date of this AD), modify the ESIS return wire ground connections following the accomplishment instructions in PILATUS AIRCRAFT LTD. PC-12 Service Bulletin No. 34-038, dated March 26, 2013.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0114, dated May 28, 2013, for related information, which can be found in the AD docket on the Internet at http://www.regulations.gov/#!documentDetail;D=FAA-2013-0610-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) PILATUS AIRCRAFT LTD. PC-12 Service Bulletin No. 34-038, dated March 26, 2013.

(ii) Reserved.

(3) For PILATUS AIRCRAFT LTD. service information identified in this AD, contact Pilatus Aircraft Ltd., Customer Service Manager, CH-6371 STANS, Switzerland; telephone: +41 (0) 41 619 65 01; fax: +41 (0) 41 619 65 76; Internet: http://www.pilatus-aircraft.com/#32.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on September 16, 2013.
Pat Mullen,
Acting Manager, Small Airplane Directorate, Aircraft Certification Service.

[FR Doc. 2013-22980 Filed 9-24-13; 8:45 am]

BILLING CODE 4910-13-P